DEPARTMENT OF TRANSPORTATION

Federal Aviation Administration

14 CFR Part 39

[Docket No. FAA-2005-22062; Directorate Identifier 2003-NM-219-AD]

RIN 2120-AA64

Airworthiness Directives; McDonnell Douglas Model DC-9-81 (MD-81), DC-9-82 (MD-82), DC-9-83 (MD-83), DC-9-87 (MD-87), MD-88, and MD-90-30 Airplanes

AGENCY: Federal Aviation Administration (FAA), DOT.

ACTION: Notice of proposed rulemaking (NPRM).

SUMMARY: The FAA proposes to adopt a new airworthiness directive (AD) for all McDonnell Douglas airplanes identified above. This proposed AD would require a one-time inspection of the aft attach fitting assembly of the spoiler link to determine the part number, and further investigative action and replacement of the assembly with a new or serviceable assembly, if necessary. This proposed AD results from a determination that the holes of certain aft attach fitting assemblies of the spoiler link were not cold-worked during production. We are proposing this AD to prevent fatigue cracking of the aft attach fitting of the spoiler link and consequent failure of the fitting. Failure of the fitting could result in an asymmetrical lift condition and consequent reduced controllability of the airplane.

DATES: We must receive comments on this proposed AD by September 26, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024); or Aerotech Engineering, Inc., 19655 Descartes, Foothill Ranch, California 92610; for service information identified in this proposed AD.

FOR FURTHER INFORMATION CONTACT: Roger Durbin, Aerospace Engineer, Airframe Branch, ANM-120L, FAA, Los Angeles Aircraft Certification Office, 3960 Paramount Boulevard, Lakewood, California 90712-4137; telephone (562) 627-5233; fax (562) 627-5210.

SUPPLEMENTARY INFORMATION:

Comments Invited

We invite you to submit any relevant written data, views, or arguments regarding this proposed AD. Include the docket number “FAA-2005-22062; Directorate Identifier 2003-NM-219-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report indicating that the holes of certain aft attach fitting assemblies of the spoiler link were not cold-worked during production. The subject assemblies were manufactured by Aerotech Manufacturing, Inc. (AMI), under the authority of a Parts Manufacturing Approval, before January 8, 2003, and may be installed on any McDonnell Douglas Model DC-9-81 (MD-81), DC-9-82 (MD-82), DC-9-83 (MD-83), DC-9-87 (MD-87), MD-88, or MD-90-30 airplanes. Cold-working of the holes increases the resistance of the fitting to fatigue cracking originating at the hole. Fatigue cracking of the aft attach fitting of the spoiler link, if not corrected, could cause the fitting to fail. Failure of the fitting could result in an asymmetrical lift condition and consequent reduced controllability of the airplane.

Relevant Service Information

We have reviewed Aerotech Manufacturing, Inc., Service Bulletin DC9-27-01-AMI5139, Revision “A,” dated June 19, 2003. The service bulletin describes procedures for a one-time inspection of the aft attach fitting assembly of the spoiler link to determine if the assembly was manufactured by AMI. The service bulletin also describes procedures for replacement of any assembly manufactured by AMI with a new or serviceable assembly that has a lot number that is not subject to this proposed AD. Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Differences Between the Proposed AD and Service Information.”

Differences Between the Proposed AD and Service Information

The service information specifies that the inspection of the aft attach fitting assembly of the spoiler link must be accomplished “at the heavy maintenance visit whereby inspection of the spoiler system can be accomplished or before 10,000 flight hours are accumulated * * *.” We find that this compliance time is not sufficiently precise to ensure that all affected assemblies will be inspected, and replaced if necessary, in a timely manner. Therefore, this proposed AD specifies a compliance time of prior to the accumulation of 10,000 total flight hours on the aft attach fitting assembly of the spoiler link, or within 18 months after the effective date of this AD, whichever is later.

Section 1.D., “Description,” of the service information describes procedures for inspecting the aft attach fitting assembly of the spoiler link to determine if it is an AMI fitting assembly. This proposed AD would require an inspection to determine the part number and, if necessary, the lot number, of the aft attach fitting assembly. We find that determining the part number, and the lot number, if necessary, is the most conclusive way to determine whether an installed fitting assembly is affected by the requirements of this proposed AD.

Clarification of Date of Original Issue of Service Bulletin

Page 1 of Aerotech Manufacturing, Inc., Service Bulletin DC9-27-01-AMI5139, Revision “A,” shows that the date of the original issue of that service bulletin is January 29, 2003. However, subsequent pages of Revision “A” of the service bulletin show that the date of the original issue of the service bulletin was March 26, 2002. We have determined that the correct date of the original issue of Aerotech Manufacturing, Inc., Service Bulletin DC9-27-01-AMI5139 is January 29, 2003.

Costs of Compliance

There are about 1,296 airplanes of the affected design in the worldwide fleet. This proposed AD would affect about 738 airplanes of U.S. registry. The proposed inspection to determine the part number of the aft attach fitting assembly of the spoiler link would take about 1 work hour per airplane, at an average labor rate of $65 per work hour. Based on these figures, the estimated cost of this proposed inspection for U.S. operators is $47,970, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2005-22062; Directorate Identifier 2003-NM-219-AD.

Comments Due Date

(a) The Federal Aviation Administration (FAA) must receive comments on this AD action by September 26, 2005.

Affected ADs

(b) None.

Applicability

(c) This AD applies to all McDonnell Douglas Model DC-9-81 (MD-81), DC-9-82 (MD-82), DC-9-83 (MD-83), DC-9-87 (MD-87), MD-88, and MD-90-30 airplanes, certificated in any category.

Unsafe Condition

(d) This AD was prompted by a determination that the holes of certain aft attach fitting assemblies of the spoiler link were not cold-worked during production. We are issuing this AD to prevent fatigue cracking of the aft attach fitting of the spoiler link and consequent failure of the fitting. Failure of the fitting could result in an asymmetrical lift condition and consequent reduced controllability of the airplane.

Compliance

(e) You are responsible for having the actions required by this AD performed within the compliance times specified, unless the actions have already been done.

Inspection

(f) Prior to the accumulation of 10,000 total flight hours on the aft attach fitting assembly of the spoiler link, or within 18 months after the effective date of this AD, whichever is later: Inspect the aft attach fitting assembly of the spoiler link to determine the part number, in accordance with Item 1.a). of Section 1.D., “Description,” of Aerotech Manufacturing, Inc., Service Bulletin DC9-27-01-AMI5139, Revision “A,” dated June 19, 2003.

(1) If the part number is not AMI3954558-1 or AMI3954558-501: No further action is required by this AD, but the provisions of paragraph (h) of this AD continue to apply.

(2) If the part number is AMI3954558-1 or AMI3954558-501: Before further flight, inspect the aft attach fitting assembly of the spoiler link to determine the lot number, then determine if the lot number is identified in the “Lot Number” column of the table in Section 1.A.1. of the service bulletin. If the lot number is not identified in the service bulletin, no further action is required by this AD, but the provisions of paragraph (h) of this AD continue to apply.

Replacement

(g) If the part number of the aft attach fitting assembly of the spoiler link is AMI3954558-1 or AMI3954558-501, and the lot number is identified in the “Lot Number” column of the table in Section 1.A.1. of Aerotech Manufacturing, Inc., Service Bulletin DC9-27-01-AMI5139, Revision “A,” dated June 19, 2003: Before further flight, replace the assembly with a new or serviceable assembly having a lot number that is not identified in the “Lot Number” column of the table in Section 1.A.1. of the service bulletin, in accordance with Item 1.b). of Section 1.D., “Description,” of the service bulletin.

Parts Installation

(h) As of the effective date of this AD, no person may install, on any airplane, an aft attach fitting assembly of the spoiler link having part number AMI3954558-1 or AMI3954558-501, and having a lot number identified in the “Lot Number” column of the table in Section 1.A.1. of Aerotech Manufacturing, Inc., Service Bulletin DC9-27-01-AMI5139, Revision “A,” dated June 19, 2003.

Alternative Methods of Compliance (AMOCs)

(i) The Manager, Los Angeles Aircraft Certification Office, FAA, has the authority to approve AMOCs for this AD, if requested in accordance with the procedures found in 14 CFR 39.19.

Issued in Renton, Washington, on August 3, 2005.
Kevin M. Mullin,
Acting Manager, Transport Airplane Directorate, Aircraft Certification Service.

[FR Doc. 05-15881 Filed 8-10-05; 8:45 am]

BILLING CODE 4910-13-P